DEPARTMENT OF THE INTERIOR

National Park Service

[NPS-WASO-NAGPRA-NPS0036928; PPWOCRADN0-PCU00RP14.R50000]

Notice of Intent To Repatriate Cultural Items: The Children's Museum of Indianapolis, Indianapolis, IN

AGENCY: National Park Service, Interior.

ACTION: Notice.

SUMMARY: In accordance with the Native American Graves Protection and Repatriation Act (NAGPRA), The Children's Museum of Indianapolis intends to repatriate certain cultural items that meet the definition of sacred objects and that have a cultural affiliation with the Indian Tribes or Native Hawaiian organizations in this notice. The cultural items were removed from Nebraska.

DATES: Repatriation of the cultural items in this notice may occur on or after December 15, 2023.

ADDRESSES: Jennifer Noffze, The Children's Museum of Indianapolis, 3000 N Meridian Street, Indianapolis, IN 46208, telephone (317) 334-3722, email jenn@childrensmuseum.org.

SUPPLEMENTARY INFORMATION: This notice is published as part of the National Park Service's administrative responsibilities under NAGPRA. The determinations in this notice are the sole responsibility of The Children's Museum of Indianapolis. The National Park Service is not responsible for the determinations in this notice. Additional information on the determinations in this notice, including the results of consultation, can be found in the summary or related records held by The Children's Museum of Indianapolis.

Description

In 1967, The Children's Museum of Indianapolis acquired a sacred object through a trade with the Museum of the American Indian in New York City. The item came from the Winnebago Tribe in Nebraska, and it dates to circa 1880. The sacred object is a medicine pouch made of animal hide and decorated with multicolored beads in a diamond zigzag pattern on a white background.

In 1967, The Children's Museum of Indianapolis purchased a sacred object pipestem from the Museum of the American Indian in New York City. The item came from the Winnebago Tribe in Nebraska, and it dates to the period 1860-1880. The sacred object is a carved wooden pipestem displaying a twisted design.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical, historical, and expert opinion.

Determinations

Pursuant to NAGPRA and its implementing regulations, and after consultation with the appropriate Indian Tribes and Native Hawaiian organizations, The Children's Museum of Indianapolis has determined that:

• The two cultural items described above are specific ceremonial objects needed by traditional Native American religious leaders for the practice of traditional Native American religions by their present-day adherents.

• There is a relationship of shared group identity that can be reasonably traced between the cultural items and the Winnebago Tribe of Nebraska.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 15, 2023. If competing requests for repatriation are received, The Children's Museum of Indianapolis must determine the most appropriate requestor prior to repatriation. Requests for joint repatriation of the cultural items are considered a single request and not competing requests. The Children's Museum of Indianapolis is responsible for sending a copy of this notice to the Indian Tribe identified in this notice.

Authority: Native American Graves Protection and Repatriation Act, 25 U.S.C. 3003, and the implementing regulations, 43 CFR 10.8, 10.10, and 10.14.

Dated: November 8, 2023.
Melanie O'Brien,
Manager, National NAGPRA Program.

[FR Doc. 2023-25212 Filed 11-14-23; 8:45 am]

BILLING CODE 4312-52-P